DEPARTMENT OF AGRICULTURE

Agricultural Marketing Service

[Document No. AMS-ST-12-0007]

Plant Variety Protection Board; Open Meeting

AGENCY: Agricultural Marketing Service, USDA.

ACTION: Notice of meeting.

SUMMARY: This notice is intended to notify the public of their opportunity to attend an open meeting of the Plant Variety Protection Board.

DATES: April 25 and 26, 2012, 8 a.m. to 5 p.m., open to the public.

ADDRESSES: The meeting will be held in the United States Department of Agriculture George Washington Carver Center, 5601 Sunnyside Avenue, Room 4-2223, Beltsville, MD 20705.

FOR FURTHER INFORMATION CONTACT: Jennifer Banks, Plant Variety Protection Office, Science and Technology Programs, Agricultural Marketing Service, United States Department of Agriculture, 10301 Baltimore Avenue, Beltsville, MD 20705. Telephone number (301) 504-5518, fax (301) 504-5291, or email: jennifer.banks@ams.usda.gov.

SUPPLEMENTARY INFORMATION: Pursuant to the provisions of section 10(a) of the Federal Advisory Committee Act (5 U.S.C., Appendix 2), this notice is given regarding an upcoming Plant Variety Protection (PVP) Board meeting. The Plant Variety Protection Act (PVPA) (7 U.S.C. 2321 et seq.) provides legal protection in the form of intellectual property rights to developers of new varieties of plants, which are reproduced sexually by seed or are tuber-propagated. A Certificate of Plant Variety Protection is awarded to an owner of a crop variety after an examination shows that it is new, distinct from other varieties, genetically uniform and stable through successive generations. The term of protection is 20 years for most crops and 25 years for trees, shrubs, and vines. The PVPA also provides for a statutory Board (7 U.S.C. 2327). The duties of the Board are to: (1) Advise the Secretary concerning the adoption of rules and regulations to facilitate the proper administration of the Act; (2) provide advisory counsel to the Secretary on appeals concerning decisions on applications by the PVP Office and on requests for emergency public-interest compulsory licenses; and (3) advise the Secretary on any other matters under the Regulations and Rules of Practice and on all questions under Section 44 of the Act, “Public Interest in Wide Usage” (7 U.S.C. 2404).

The proposed agenda for the PVP Board meeting will include a welcome by Department officials followed by a discussion focusing on program activities that encourage the development of new plant varieties. The agenda will also include presentations on the financial status of the PVP Office, changes to the office workflow as a result of the recently completed business process reengineering study, E-business update, international outreach activities and other related topics.

The meeting will be open to the public. Those wishing to attend the meeting are encouraged to pre-register by April 23, 2012 with the person listed under FOR FURTHER INFORMATION CONTACT. Visitors entering the George Washington Carver Center should inform security personnel that they are attending the PVP Board meeting. Identification will be required to be admitted to the building. Security personnel will direct visitors to Room 4-2223. If you require accommodations, such as sign language interpreter, please contact the person listed under FOR FURTHER INFORMATION CONTACT. Minutes of the meeting will be available for public review 30 days following the meeting at the address listed under FOR FURTHER INFORMATION CONTACT. The minutes will also be posted on the Internet web site http://www.ams.usda.gov/AMSv1.0/pvpo.

Dated: March 30, 2012.
Ruihong Guo,
Acting Administrator, Agricultural Marketing Service.

[FR Doc. 2012-8126 Filed 4-4-12; 8:45 am]

BILLING CODE 3410-02-P